DEPARTMENT OF TRANSPORTATION

Federal Aviation Administration

14 CFR Part 39

[Docket No. FAA-2012-0732; Directorate Identifier 2012-CE-022-AD]

RIN 2120-AA64

Airworthiness Directives; PILATUS AIRCRAFT LTD. Airplanes

AGENCY: Federal Aviation Administration (FAA), Department of Transportation (DOT).

ACTION: Supplemental notice of proposed rulemaking (NPRM); reopening of the comment period.

SUMMARY: We are revising an earlier NPRM for all PILATUS AIRCRAFT LTD. Models PC-12, PC-12/45, PC-12/47, and PC-12/47E airplanes. This proposed AD results from mandatory continuing airworthiness information (MCAI) originated by an aviation authority of another country to identify and correct an unsafe condition on an aviation product. The MCAI describes the unsafe condition as a need to incorporate new revisions into the Limitations section, Chapter 4, of the FAA-approved maintenance program (e.g., maintenance manual). We are issuing this proposed AD to require actions to address the unsafe condition on these products.

DATES: We must receive comments on this proposed AD by December 6, 2012.

ADDRESSES: You may send comments by any of the following methods:

• Federal eRulemaking Portal: Go to http://www.regulations.gov. Follow the instructions for submitting comments.

• Fax: (202) 493-2251.

Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact PILATUS AIRCRAFT LTD., Customer Service Manager, CH-6371 STANS, Switzerland; telephone: +41 (0)41 619 62 08; fax: +41 (0)41 619 73 11; Internet: http://www.pilatus-aircraft.com or email: SupportPC12@pilatus-aircraft.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2012-0732; Directorate Identifier 2012-CE-022-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend 14 CFR part 39 with an earlier NPRM for the specified products, which was published in the Federal Register on July 18, 2012 (77 FR 42225). That earlier NPRM (77 FR 42225, July 18, 2012) proposed to require actions intended to address the unsafe condition for the products listed above.

Since that NPRM (77 FR 42225, July 18, 2012), was issued, PILATUS AIRCRAFT LTD. has issued updated revisions to the Structural and Component Airworthiness Limitations documents.

Relevant Service Information

Pilatus Aircraft Ltd. has issued Pilatus PC12 Aircraft Maintenance Manual Temporary Revision No. 04-03, dated October 12, 2012, which transmits Unclassified 12-A/AMP-04 Structural, Component and Miscellaneous—Airworthiness Limitations, document 12-A-04-00-00-00A-000A-A, dated October 15, 2012; and PC12/47E Aircraft Maintenance Manual Temporary Revision No. 04-01, dated October 15, 2012, which transmits Unclassified 12-B/AMP-04 Structural and Component Limitations—Airworthiness Limitations, document 12-B-04-00-00-00A-000A-A, dated October 15, 2012. The actions described in this service information are intended to correct the unsafe condition identified in the MCAI.

Comments

We have considered the following comment received on the earlier NPRM (77 FR 42225, July 18, 2012).

Johan Kruger of PILATUS AIRCRAFT LTD. requested the FAA to incorporate new revisions of the Structural and Component Airworthiness Limitations documents into the proposed AD. These revisions incorporate a change to the fire extinguisher life limit, correct the flap control and warning unit (FCWU) part number, and change the description of the cockpit inner and outer window damage.

We agree with the commenter. In order to ensure that the owners/operators of the affected airplanes are using the correct limitations for their FAA-approved maintenance program, we are incorporating the new revisions to the Structural and Component Airworthiness Limitations documents into this proposed AD.

FAA's Determination and Requirements of the Proposed AD

This product has been approved by the aviation authority of another country, and is approved for operation in the United States. Pursuant to our bilateral agreement with this State of Design Authority, they have notified us of the unsafe condition described in the MCAI and service information referenced above. We are proposing this supplemental NPRM because we evaluated all information and determined the unsafe condition exists and is likely to exist or develop on other products of the same type design. Certain changes described above expand the scope of the original NPRM (77 FR 42225, July 18, 2012). As a result, we have determined that it is necessary to reopen the comment period to provide additional opportunity for the public to comment on this supplemental NPRM.

Costs of Compliance

We estimate that this proposed AD would affect 678 products of U.S. registry. We also estimate that it would take about 3.5 work-hours per product to comply with the basic requirements of this AD. The average labor rate is $85 per work-hour. Required parts would cost about $300 per product. Based on these figures, we estimate the cost of this proposed AD on U.S. operators to be $405,105, or $597.50 per product.

In addition, we estimate that any necessary follow-on actions would take about 6 work-hours and require parts costing $4,000, for a cost of $4,510 per product. We have no way of determining the number of products that may need these actions.

We also estimate that it would take about 12 work-hours per product to comply with the addition of the wing inspection requirements of this proposed AD. The average labor rate is $85 per work-hour.

Based on these figures, we estimate the cost of the proposed wing inspection on U.S. operators to be $691,560, or $1,020 per product.

In addition, we estimate that any necessary follow-on actions would take about 7 work-hours and require parts costing approximately $5,000, for a cost of $5,595 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

PILATUS AIRCRAFT LTD.: Docket No. FAA-2012-0732; Directorate Identifier 2012-CE-022-AD.

(a) Comments Due Date

We must receive comments by December 6, 2012.

(b) Affected ADs

This AD supersedes AD 2009-14-13, Amendment 39-15963 (74 FR 34213, July 15, 2009).

(c) Applicability

This AD applies to PILATUS AIRCRAFT LTD. Models PC-12, PC-12/45, PC-12/47, and PC-12/47E airplanes, all manufacturer serial numbers (MSNs), certificated in any category.

(d) Subject

Air Transport Association of America (ATA) Code 05: Time Limits.

(e) Reason

This AD was prompted by mandatory continuing airworthiness information (MCAI) originated by an aviation authority of another country to identify and correct an unsafe condition on an aviation product. The MCAI describes the unsafe condition as a need to incorporate new revisions into the Limitations section, Chapter 4, of the FAA-approved maintenance program (e.g., maintenance manual). The limitations were revised to include an inspection of the wing main spar fastener holes at rib 6 for cracks. These actions are required to ensure the continued operational safety of the affected airplanes.

(f) Actions and Compliance

Unless already done, do the following actions:

(1) For Models PC-12 and PC-12/45 airplanes, MSNs 101 through 299: Within the next 100 hours time-in-service (TIS) after August 19, 2009 (the effective date retained from AD 2009-14-13, Amendment 39-15963 (74 FR 34213, July 15, 2009)) or 1 year after August 19, 2009 (the effective date retained from AD 2009-14-13), whichever occurs first, replace the torque tube part number (P/N) 532.50.12.047 with torque tube P/N 532.50.12.064 following PILATUS AIRCRAFT LTD. Service Bulletin No: 32-021, dated November 21, 2008.

(2) For all airplanes: As of the effective date of this AD, do not install torque tube P/N 532.50.12.047.

(3) For all airplanes: Before further flight after the effective date of this AD, insert Pilatus PC12 Aircraft Maintenance Manual Temporary Revision No. 04-03, dated October 15, 2012, which transmits Unclassified 12-A/AMP-04 Structural, Component and Miscellaneous—Airworthiness Limitations, document 12-A-04-00-00-00A-000A-A, dated October 15, 2012 (for Models PC-12, PC-12/45, PC-12/47), and PC12/47E Aircraft Maintenance Manual Temporary Revision No. 04-01, dated October 15, 2012, which transmits Unclassified 12-B/AMP-04 Structural and Component Limitations—Airworthiness Limitations, document 12-B-04-00-00-00A-000A-A, dated October 15, 2012 (for Model PC-12/47E), into the Limitations section of the FAA-approved maintenance program (e.g., maintenance manual). The limitations section revision does the following:

(i) Establishes an inspection of the wing main spar fastener holes at rib 6,

(ii) Specifies replacement of components before or upon reaching the applicable life limit, and

(iii) Specifies accomplishment of all applicable maintenance tasks within certain thresholds and intervals.

(4) For all airplanes: If no compliance time is specified in the documents listed in paragraph (f)(3) of this AD when doing any corrective actions where discrepancies are found as required in paragraph (f)(3)(iii) of this AD, do these corrective actions before further flight after doing the applicable maintenance task.

(5) For all airplanes: During the accomplishment of the actions required in paragraphs (f)(3)(i), (f)(3)(ii), and (f)(3)(iii) of this AD, if a discrepancy is found that is not identified in the documents listed in paragraph (f)(3) of this AD, before further flight after finding the discrepancy, contact Pilatus Aircraft Ltd. at the address specified in paragraph (h) of this AD for a repair scheme and incorporate that repair scheme.

Note 1 to paragraph (f)(3) of this AD: Pilatus PC12 Aircraft Maintenance Manual Temporary Revision No. 04-03, dated October 15, 2012, which transmits Unclassified 12-A/AMP-04 Structural, Component and Miscellaneous—Airworthiness Limitations, document 12-A-04-00-00-00A-000A-A, dated October 15, 2012 (for Models PC-12, PC-12/45, PC-12/47) is part of Chapter 4 of the Airplane Maintenance Manual (AMM) report 02049, issue 25, dated January 25, 2012.

Note 2 to paragraph (f)(3) of this AD: PC12/47E Aircraft Maintenance Manual Temporary Revision No. 04-01, dated October 15, 2012, which transmits Unclassified 12-B/AMP-04 Structural and Component Limitations—Airworthiness Limitations, document 12-B-04-00-00-00A-000A-A, dated October 15, 2012 (for Model PC-12/47E) is part of Chapter 4 of the AMM report 02300, issue 8, dated January 25, 2012.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov.

(i) Before using any approved AMOC on any airplane to which the AMOC applies, notify your appropriate principal inspector (PI) in the FAA Flight Standards District Office (FSDO), or lacking a PI, your local FSDO.

(ii) AMOCs approved for AD 2009-14-13, Amendment 39-15963 (74 FR 34213, July 15, 2009) are not approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No. 2012-0099, dated June 8, 2012; Pilatus PC12 Aircraft Maintenance Manual Temporary Revision No. 04-03, dated October 15, 2012, which transmits Unclassified 12-A/AMP-04 Structural, Component and Miscellaneous—Airworthiness Limitations, document 12-A-04-00-00-00A-000A-A, dated October 15, 2012; PC12/47E Aircraft Maintenance Manual Temporary Revision No. 04-01, dated October 15, 2012, which transmits Unclassified 12-B/AMP-04 Structural and Component Limitations—Airworthiness Limitations, document 12-B-04-00-00-00A-000A-A, dated October 15, 2012; and PILATUS AIRCRAFT LTD. Service Bulletin No: 32-021, dated November 21, 2008, for related information. For service information related to this AD, contact PILATUS AIRCRAFT LTD., Customer Service Manager, CH-6371 STANS, Switzerland; telephone: +41 (0)41 619 62 08; fax: +41 (0)41 619 73 11; Internet: http://www.pilatus-aircraft.com or email: SupportPC12@pilatus-aircraft.com. You may review copies of the referenced service information at the FAA, Small Airplane Directorate, 901 Locust, Kansas City, Missouri 64106. For information on the availability of this material at the FAA, call (816) 329-4148.

Issued in Kansas City, Missouri, on October 16, 2012.
Pat Mullen,
Acting Manager, Small Airplane Directorate, Aircraft Certification Service.

[FR Doc. 2012-25901 Filed 10-19-12; 8:45 am]

BILLING CODE 4910-13-P